DEPARTMENT OF LABOR

Employment and Training Administration

[TA-W-65,389]

IAC Fremont, LLC, New Production Introduction Assembly Formerly Known as Lear Corporation-Fremont, Fremont, OH; Notice of Termination of Investigation

Pursuant to Section 221 of the Trade Act of 1974, as amended, an investigation was initiated on February 26, 2009 in response to a worker petition filed by UNITE-HERE Locals 224-T, 2375, and 323 on behalf of workers of IAC Fremont, LLC, New Production Introduction Assembly, Fremont, Ohio.

Additionally, workers' wages were also reported under another corporate name: Lear Corporation—Fremont.

The petitioner has requested that the petition be withdrawn. Consequently, the investigation has been terminated.

Signed at Washington, DC, this 20th day of March 2009.
Richard Church,
Certifying Officer, Division of Trade Adjustment Assistance.

[FR Doc. E9-8288 Filed 4-10-09; 8:45 am]

BILLING CODE 4510-FN-P